DEPARTMENT OF TRANSPORTATION

Federal Aviation Administration

14 CFR Part 39

[Docket No. FAA-2007-27016; Directorate Identifier 2006-NM-176-AD]

RIN 2120-AA64

Airworthiness Directives; Bombardier Model DHC-8-400 Series Airplanes

AGENCY: Federal Aviation Administration (FAA), Department of Transportation (DOT).

ACTION: Notice of proposed rulemaking (NPRM).

SUMMARY: The FAA proposes to supersede an existing airworthiness directive (AD) that applies to certain Bombardier Model DHC-8-400 series airplanes. The existing AD currently requires inspecting the electrical connectors of the fire bottles for the forward and aft baggage compartments and for the auxiliary power unit (APU) and engine nacelles to determine if they are connected correctly; and doing related investigative and corrective actions, if necessary. This proposed AD would add a requirement to install/modify lanyards, mounts, and clamps to the forward and aft baggage compartment, APU, and engine nacelle fire extinguishing systems. This proposed AD would also require installation and removal procedures for certain fire bottles and fire extinguisher cartridges. This proposed AD also adds two airplanes to the applicability. This proposed AD results from reports of the electrical connectors for the fire bottles in the forward and aft baggage compartments, APU, and engine nacelle being cross-connected. We are proposing this AD to detect and correct cross-connection of the fire bottles and to prevent cross-connection, which could result in failure of the fire bottles to discharge and consequent inability to extinguish a fire in the affected areas.

DATES: We must receive comments on this proposed AD by February 26, 2007.

ADDRESSES: Use one of the following addresses to submit comments on this proposed AD.

• DOT Docket Web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Bombardier, Inc., Bombardier Regional Aircraft Division, 123 Garratt Boulevard, Downsview, Ontario M3K 1Y5, Canada, for service information identified in this proposed AD.

FOR FURTHER INFORMATION CONTACT: Ezra Sasson, Aerospace Engineer, Systems and Flight Test Branch, ANE-172, FAA, New York Aircraft Certification Office, 1600 Stewart Avenue, suite 410, Westbury, New York 11590; telephone (516) 228-7320; fax (516) 794-5531.

SUPPLEMENTARY INFORMATION:

Comments Invited

We invite you to submit any relevant written data, views, or arguments regarding this proposed AD. Send your comments to an address listed in the ADDRESSES section. Include the docket number “Docket No. FAA-2007-27016; Directorate Identifier 2006-NM-176-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On June 7, 2005, we issued AD 2005-12-17, amendment 39-14133 (70 FR 35172, June 17, 2005), for certain Bombardier Model DHC-8-400 series airplanes. That AD requires inspecting the electrical connectors of the fire bottles for the forward and aft baggage compartments and for the auxiliary power unit (APU) and engine nacelles to determine if they are connected correctly; and doing related investigative and corrective actions, if necessary. That AD resulted from reports of the electrical connectors for the fire bottles in the forward and aft baggage compartments being cross-connected. We issued that AD to detect and correct cross-connection of the fire bottles, which could result in failure of the fire bottles to discharge and consequent inability to extinguish a fire in the affected areas.

Actions Since Existing AD Was Issued

Since we issued AD 2005-12-17, it was determined that the lengths of the lanyards may not be sufficiently different to prevent cross-connection of cartridges if the tie wraps or associated clipping are not located as intended.

Relevant Service Information

Bombardier has issued Alert Service Bulletin A84-26-06, Revision ‘A,’ dated June 6, 2005 (Bombardier Alert Service Bulletin A84-26-06, dated May 12, 2005, was referenced as the appropriate source of service information for doing the actions specified in AD 2005-12-17). Revision ‘A’ contains essentially the same procedures as the original issue. Revision 'A' clarifies an operational check and other minor editorial changes.

Bombardier has also issued Service Bulletin 84-26-07, Revision ‘B,’ dated November 1, 2006. The service bulletin describes procedures to install/modify lanyards, mounts, and clamps to the forward and aft baggage compartment, APU, and engine nacelle fire extinguishing systems. The service bulletin includes two additional airplanes in its effectivity that are not in Bombardier Alert Service Bulletin A84-26-06.

Accomplishing the actions specified in the service information is intended to adequately address the unsafe condition. Transport Canada Civil Aviation (TCCA), which is the airworthiness authority for Canada, mandated the service information and issued Canadian airworthiness directive CF-2005-14R1, dated May 8, 2006, to ensure the continued airworthiness of these airplanes in Canada.

Bombardier has also issued the temporary revisions (TRs) specified in the table below to the Bombardier Dash 8 Series 400 Aircraft Maintenance Manual (AMM), Program Support Manual (PSM) 1-84-2. The TRs specify installation and removal procedures for certain fire bottles and fire extinguisher cartridges.

Table—Bombardier TRs
TR | Date | PSM chapter
26-017 | May 10, 2005 | 26-21-01.
26-018 | May 10, 2005 | 26-21-01.
26-019 | May 10, 2005 | 26-22-02.
26-020 | May 10, 2005 | 26-22-03.
26-021 | May 10, 2005 | 26-22-11.
26-022 | May 10, 2005 | 26-22-11.
26-023 | May 11, 2005 | 26-23-01.
26-024 | May 11, 2005 | 26-22-16.
26-025 | May 11, 2005 | 26-22-16.
26-026 | May 11, 2005 | 26-21-06.
26-027 | May 11, 2005 | 26-21-06.

The TRs have been incorporated into Bombardier Dash 8 Series 400 AMM, PSM 1-84-2, Revision 21, dated December 5, 2005. Bombardier has also issued Revision 22 of the Dash 8 Series 400 AMM, PSM 1-84-2, dated June 5, 2006. Revision 22 contains the same procedures as those specified in the TRs and incorporated into Revision 21.

FAA's Determination and Requirements of the Proposed AD

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that AD action is necessary for airplanes of this type design that are certificated for operation in the United States.

This proposed AD would supersede AD 2005-12-17 and would retain the requirements of the existing AD. This proposed AD would also require installing/modifying lanyards, mounts, and clamps to the forward and aft baggage compartment, APU, and engine nacelle fire extinguishing systems. This proposed AD would also require installation and removal procedures for certain fire bottles and fire extinguisher cartridges. This proposed AD would also add two airplanes to the applicability.

Costs of Compliance

The following table provides the estimated costs for U.S. operators to comply with this proposed AD.

Estimated Costs
Action | Work hours | Average labor rate per hour | Parts | Cost per airplane | Number of U.S.-registered airplanes | Fleet cost
Inspection (required by AD 2005-12-17) | 2 | $80 | $0 | $160 | 19 | $3,040.
Modification (new proposed action) | 4 | 80 | Up to $200 | 520 | 21 | Up to $10,920.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14133 (70 FR 35172, June 17, 2005) and adding the following new airworthiness directive (AD):

Bombardier, Inc. (Formerly de Havilland, Inc.): Docket No. FAA-2007-27016; Directorate Identifier 2006-NM-176-AD.

Comments Due Date

(a) The FAA must receive comments on this AD action by February 26, 2007.

Affected ADs

(b) This AD supersedes AD 2005-12-17.

Applicability

(c) This AD applies to Bombardier Model DHC-8-400 series airplanes, certificated in any category; serial numbers (S/Ns) 4001 through 4107 inclusive.

Unsafe Condition

(d) This AD results from reports of the electrical connectors for the fire bottles in the forward and aft baggage compartments, auxiliary power unit (APU), and engine nacelle being cross-connected. We are issuing this AD to detect and correct cross-connection of the fire bottles and to prevent cross-connection, which could result in failure of the fire bottles to discharge and consequent inability to extinguish a fire in the affected areas.

Compliance

(e) You are responsible for having the actions required by this AD performed within the compliance times specified, unless the actions have already been done.

Restatement of Requirements of AD 2005-12-17

Inspection and Corrective Action

(f) For airplanes having S/Ns 4001 through 4105 inclusive: Within 14 days after July 5, 2005 (the effective date of AD 2005-12-17), inspect the electrical connectors of the fire bottles for the forward and aft baggage compartments and for the APU and engine nacelles to determine if they are connected correctly; and, before further flight, do the related investigative and corrective actions, as applicable; by doing all of the applicable actions specified in the Accomplishment Instructions of Bombardier Alert Service Bulletin A84-26-06, dated May 12, 2005; or Revision ‘A,’ dated June 6, 2005. Although the service bulletins specify to submit certain information to the manufacturer, this AD does not include that requirement.

New Requirements of This AD

Installation/Modification

(g) For all airplanes: Within 5,000 flight hours after the effective date of this AD, install/modify lanyards, mounts, and clamps to the forward and aft baggage compartment, APU, and engine nacelle fire extinguishing systems by doing all the actions specified in the Accomplishment Instructions of Bombardier Service Bulletin 84-26-07, Revision ‘B,’ dated November 1, 2006.

Installation and Removal of Bottles and Cartridges

(h) For airplanes having S/Ns 4001 through 4105 inclusive: As of the effective date of this AD, whenever any of the actions specified in paragraphs (h)(1), (h)(2), (h)(3), (h)(4), (h)(5), (h)(6), and (h)(7) of this AD are done, those actions must be done in accordance with a method approved by either the Manager, New York Aircraft Certification Office (ACO), FAA; or Transport Canada Civil Aviation (or its delegated agent). Bombardier Dash 8 Series 400 Aircraft Maintenance Manual, Product Support Manual (PSM) 1-84-2, Revision 22, dated June 5, 2006, is one approved method.

(1) Installation and removal of nacelle fire bottles.

(2) Installation of aft high-rate fire bottles.

(3) Installation of forward high-rate fire bottles.

(4) Installation and removal of low-rate fire bottles.

(5) Installation of APU fire bottles.

(6) Installation and removal of low-rate fire extinguisher cartridges.

(7) Installation and removal of nacelle fire extinguisher cartridges.

Actions Accomplished According to Previous Issue of Service Bulletin

(i) Actions accomplished before the effective date of this AD in accordance with Bombardier Service Bulletin 84-26-07, dated June 15, 2005; and Revision ‘A,’ dated February 21, 2006; are considered acceptable for compliance with the corresponding action specified in paragraph (g) of this AD, provided the intended restriction of the connectors was done as specified in Bombardier Service Bulletin 84-26-07, Revision ‘B,’ dated November 1, 2006.

Alternative Methods of Compliance (AMOCs)

(j)(1) The Manager, New York ACO, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) Canadian airworthiness directive CF-2005-14R1, dated May 8, 2006, also addresses the subject of this AD.

Issued in Renton, Washington, on January 17, 2007.
Ali Bahrami,
Manager, Transport Airplane Directorate, Aircraft Certification Service.

[FR Doc. E7-1201 Filed 1-25-07; 8:45 am]

BILLING CODE 4910-13-P